DEPARTMENT OF DEFENSE

Office of the Secretary

Notice of Continuation and Expansion of a Disease Management Demonstration Project for TRICARE Standard Beneficiaries

AGENCY: Department of Defense.

ACTION: Notice of demonstration project.

SUMMARY: This notice is to advise interested parties of the continuation and expansion of a Military Health System (MHS) demonstration project entitled “Disease Management Demonstration Project for TRICARE Standard Beneficiaries”. The original demonstration notice was published on June 13, 2007 (72 FR 32628-32629) and described a demonstration project to provide disease management (DM) services to TRICARE Standard beneficiaries in addition to the TRICARE Prime beneficiaries who were already entitled to such services. TRICARE began the demonstration project in March 2007 for Standard beneficiaries and this demonstration project has enabled the MHS to provide uniform policies and practices on disease and chronic care management throughout the TRICARE network. Additionally, the demonstration has helped determine the effectiveness of DM programs in improving the health status of beneficiaries with targeted chronic diseases or conditions, and any associated cost savings. The TRICARE Management Activity (TMA) chose a phased approach to determine the efficacy and cost effectiveness of its disease management demonstration, beginning with beneficiaries identified with the disease states of asthma, congestive heart failure, and diabetes. TMA now intends to expand the disease management services to TRICARE Standard beneficiaries with the additional disease states of cancer, Chronic Obstructive Pulmonary Disease (COPD), and anxiety and depression disorders as well as continue the original disease states of asthma, congestive heart failure, and diabetes. This expansion and continuation of the DM demonstration project will be conducted under the authority provided in 10 U.S.C. 1092.

DATES: The expansion of the demonstration will be effective April 1, 2009 and will continue for a period of 2 years until March 31, 2011. The terms and conditions of the original demonstration notice will continue.

FOR FURTHER INFORMATION CONTACT: Dr. Barry Cohen, Director of Healthcare Operations—TRICARE Management Activity, 5111 Leesburg Pike, Suite 810, Falls Church, VA 22041-3206; telephone (703) 681-4029.

SUPPLEMENTARY INFORMATION:

A. Background

For additional information on the TRICARE demonstration project for DM, please see 72 FR 32628-32629. The demonstration notice focused on explaining the differences between the DM benefits available to TRICARE Standard and TRICARE Prime beneficiaries and the manner in which DM services had been provided prior to the demonstration. The prior notice explained that for purposes of the demonstration, the Department of Defense (DoD) would waive, for these DM services provided to Standard beneficiaries, the provisions of 10 U.S.C. 1079(a)(13) and 32 CFR 199.4(g)(39) that expressly exclude clinical preventive services for TRICARE Standard beneficiaries. The prior notice also explained the enrollment process and cap on DM costs.

B. Description of Expansion of Demonstration Project

Under this demonstration, DoD has waived, for disease management services provided to TRICARE Standard beneficiaries, the provisions of 10 U.S.C. 1079(a)(13) and 32 CFR 199.4(g)(39) that expressly exclude clinical preventive services for TRICARE Standard beneficiaries in the current benefit. The Military Health System (MHS) has enrolled TRICARE Standard beneficiaries in its DM programs. DM services provided to Standard beneficiaries have included, but have not been limited to: Clinical preventive examinations, patient education and counseling services, and periodic screening exams. MHS DM program costs have been capped not to exceed the amount approved by the contracting officer. The DM program costs are total costs of DM services provided to both Prime and Standard beneficiaries. Only those beneficiaries identified by the TRICARE Management Activity (TMA) for disease management of asthma, congestive heart failure, and diabetes have been included in the current program. TMA is now expanding the demonstration by including the additional disease states of cancer, COPD, and anxiety and depression disorders. Beneficiaries identified by TMA are included in the DM program unless they choose to opt out. This action directly reduces variation across the system and results in improved consistency and quality for beneficiaries with targeted chronic illness, regardless of TRICARE classification. Furthermore, including TRICARE Standard beneficiaries in current DM efforts informs the MHS about total potential savings and return on investment (ROI) associated with DM, a stated requirement of the John Warner National Defense Authorization Act for Fiscal Year 2007. Continuing to provide the current three, and adding the additional three diseases to the system-wide DM program, will improve the quality of care of our beneficiaries. By educating patients about their disease and helping them manage their symptoms, many of the complications of these diseases can be avoided, possibly slowing the progression of their chronic disease, thus resulting in significant cost savings.

C. Implementation

The expansion of the demonstration will be effective on April 1, 2009. The terms and conditions of the original demonstration as provided in the Notice in 72 FR 32368-32369 will continue on that date.

D. Evaluation

An independent evaluation of the demonstration will be conducted. The evaluation will be designed to use a combination of administrative and survey measures of health care outcomes (clinical, utilization, financial, and humanistic measures) to provide analyses and comment on meeting its goal of providing uniform disease management policies and practices across the MHS.

Dated: March 9, 2009.
Patricia L. Toppings,
OSD Federal Register Liaison Officer, Department of Defense.

[FR Doc. E9-5626 Filed 3-13-09; 8:45 am]

BILLING CODE 5001-06-P